SUSQUEHANNA RIVER BASIN COMMISSION

Projects Approved for Consumptive Uses of Water

AGENCY: Susquehanna River Basin Commission.

ACTION: Notice.

SUMMARY: This notice lists the projects approved by rule by the Susquehanna River Basin Commission during the period set forth in DATES.

DATES: July 1-31, 2015.

ADDRESSES: Susquehanna River Basin Commission, 4423 North Front Street, Harrisburg, PA 17110-1788.

FOR FURTHER INFORMATION CONTACT: Jason E. Oyler, General Counsel, telephone: (717) 238-0423, ext. 1312; fax: (717) 238-2436; email: joyler@srbc.net. Regular mail inquiries may be sent to the above address.

SUPPLEMENTARY INFORMATION: This notice lists the projects, described below, receiving approval for the consumptive use of water pursuant to the Commission's approval by rule process set forth in 18 CFR 806.22(f) for the time period specified above:

Approvals by Rule Issued Under 18 CFR 806.22(f)

1. Talisman Energy USA Inc., Pad ID: Roy 03 039, ABR-20100630.R1, Wells Township, Bradford County, Pa.; Consumptive Use of Up to 6.0000 mgd; Approval Date: July 6, 2015.

2. Talisman Energy USA Inc., Pad ID: Harnish 01 032, ABR-20100647.R1, Canton Township, Bradford County, Pa.; Consumptive Use of Up to 6.0000 mgd; Approval Date: July 6, 2015.

3. Talisman Energy USA Inc., Pad ID: Wray 03 058, ABR-20100649.R1, Wells Township, Bradford County, Pa.; Consumptive Use of Up to 6.0000 mgd; Approval Date: July 6, 2015.

4. Talisman Energy USA Inc., Pad ID: Schucker 03 006, ABR-20100654.R1, Columbia Township, Bradford County, Pa.; Consumptive Use of Up to 6.0000 mgd; Approval Date: July 6, 2015.

5. Talisman Energy USA Inc., Pad ID: Morgan 01 073, ABR-20100693.R1, Armenia Township, Bradford County, Pa.; Consumptive Use of Up to 6.0000 mgd; Approval Date: July 6, 2015.

6. Talisman Energy USA Inc., Pad ID: Lyon 01 078, ABR-20100696.R1, Troy Township, Bradford County, Pa.; Consumptive Use of Up to 6.0000 mgd; Approval Date: July 6, 2015.

7. Talisman Energy USA Inc., Pad ID: Feusner 03 053, ABR-201006100.R1, Columbia Township, Bradford County, Pa.; Consumptive Use of Up to 6.0000 mgd; Approval Date: July 6, 2015.

8. Talisman Energy USA Inc., Pad ID: White 03 025, ABR-201006101.R1, Columbia Township, Bradford County, Pa.; Consumptive Use of Up to 6.0000 mgd; Approval Date: July 6, 2015.

9. XTO Energy Incorporated, Pad ID: Temple, ABR-20090714.R1, Moreland Township, Lycoming County, Pa.; Consumptive Use of Up to 3.0000 mgd; Approval Date: July 6, 2015.

10. XTO Energy Incorporated, Pad ID: PA TRACT 8546H, ABR-201010070.R1, Chapman Township, Clinton County, Pa.; Consumptive Use of Up to 4.0000 mgd; Approval Date: July 6, 2015.

11. XTO Energy Incorporated, Pad ID: Houseweart 8527H, ABR-201009028.R1, Pine Township, Columbia County, Pa.; Consumptive Use of Up to 4.0000 mgd; Approval Date: July 6, 2015.

12. Seneca Resources Corporation, Pad ID: C09-A, ABR-201507001, Shippen Township, Cameron County, Pa.; Consumptive Use of Up to 4.0000 mgd; Approval Date: July 8, 2015.

13. Seneca Resources Corporation, Pad ID: C09-J, ABR-201507002, Shippen Township, Cameron County, Pa.; Consumptive Use of Up to 4.0000 mgd; Approval Date: July 8, 2015.

14. Chesapeake Appalachia, LLC, Pad ID: Crystal, ABR-201011009.R1, North Towanda Township, Bradford County, Pa.; Consumptive Use of Up to 7.5000 mgd; Approval Date: July 8, 2015.

15. Chesapeake Appalachia, LLC, Pad ID: Lytwyn, ABR-201011028.R1, Smithfield Township, Bradford County, Pa.; Consumptive Use of Up to 7.5000 mgd; Approval Date: July 8, 2015.

16. Chesapeake Appalachia, LLC, Pad ID: Taylor, ABR-201011034.R1, Orwell Township, Bradford County, Pa.; Consumptive Use of Up to 7.5000 mgd; Approval Date: July 8, 2015.

17. Chesapeake Appalachia, LLC, Pad ID: Roeber, ABR-201011037.R1, Wyalusing Township, Bradford County, Pa.; Consumptive Use of Up to 7.5000 mgd; Approval Date: July 8, 2015.

18. Chesapeake Appalachia, LLC, Pad ID: Epler, ABR-201011041.R1, Albany Township, Bradford County, Pa.; Consumptive Use of Up to 7.5000 mgd; Approval Date: July 8, 2015.

19. Chesapeake Appalachia, LLC, Pad ID: Comstock, ABR-201011053.R1, Rome Township, Bradford County, Pa.; Consumptive Use of Up to 7.5000 mgd; Approval Date: July 8, 2015.

20. Chesapeake Appalachia, LLC, Pad ID: Dunny, ABR-201011066.R1, Windham Township, Wyoming County, Pa.; Consumptive Use of Up to 7.5000 mgd; Approval Date: July 8, 2015.

21. EXCO Resources (PA), LLC, Pad ID: Barto Unit #1H, #2H, ABR-20090514.R1, Penn Township, Lycoming County, Pa.; Consumptive Use of Up to 5.0000 mgd; Approval Date: July 8, 2015.

22. EXCO Resources (PA), LLC, Pad ID: Zinck Unit #1H, ABR-20090718.R1, Watson Township, Lycoming County, Pa.; Consumptive Use of Up to 5.0000 mgd; Approval Date: July 8, 2015.

23. EXCO Resources (PA), LLC, Pad ID: Bower Unit #1H Drilling Pad, ABR-20090815.R1, Penn Township, Lycoming County, Pa.; Consumptive Use of Up to 5.0000 mgd; Approval Date: July 8, 2015.

24. Cabot Oil & Gas Corporation, Pad ID: KrisuleviczV P1, ABR-201102027.R1, Auburn Township, Susquehanna County, Pa.; Consumptive Use of Up to 3.5750 mgd; Approval Date: July 14, 2015.

25. Cabot Oil & Gas Corporation, Pad ID: LymanJ P1, ABR-201104018.R1, Springville Township, Susquehanna County, Pa.; Consumptive Use of Up to 3.5750 mgd; Approval Date: July 14, 2015.

26. Cabot Oil & Gas Corporation, Pad ID: Augustine P1, ABR-201105002.R1, Springville Township, Susquehanna County, Pa.; Consumptive Use of Up to 3.5750 mgd; Approval Date: July 14, 2015.

27. Chesapeake Appalachia, LLC, Pad ID: Primrose, ABR-201011035.R1, Standing Stone Township, Bradford County, Pa.; Consumptive Use of Up to 7.5000 mgd; Approval Date: July 14, 2015.

28. Chesapeake Appalachia, LLC, Pad ID: Penecale, ABR-201011060.R1, North Branch Township, Wyoming County, Pa.; Consumptive Use of Up to 7.5000 mgd; Approval Date: July 14, 2015.

29. EXCO Resources (PA), LLC, Pad ID: Maguire Unit Drilling Pad #1, ABR-20090923.R1, Watson Township, Lycoming County, Pa.; Consumptive Use of Up to 5.0000 mgd; Approval Date: July 14, 2015.

30. EXCO Resources (PA), LLC, Pad ID: Kitzmiller Drilling Pad #1, ABR-20100546.R1, Jordan Township, Lycoming County, Pa.; Consumptive Use of Up to 2.0000 mgd; Approval Date: July 14, 2015.

31. EXCO Resources (PA), LLC, Pad ID: Fulmer Drilling Pad #1, ABR-20100616.R1, Penn Township, Lycoming County, Pa.; Consumptive Use of Up to 2.0000 mgd; Approval Date: July 14, 2015.

32. EXCO Resources (PA), LLC, Pad ID: Poor Shot East Drilling Pad #2, ABR-20100681.R1, Anthony Township, Lycoming County, Pa.; Consumptive Use of Up to 8.0000 mgd; Approval Date: July 14, 2015.

33. SWN Production Company, LLC, Pad ID: NR-19-Walker Diehl, ABR-201507003, Oakland Township, Susquehanna County, Pa.; Consumptive Use of Up to 4.9990 mgd; Approval Date: July 17, 2015.

34. Cabot Oil & Gas Corporation, Pad ID: ArnoneJ P1, ABR-201507004, Brooklyn Township, Susquehanna County, Pa.; Consumptive Use of Up to 4.2500 mgd; Approval Date: July 17, 2015.

35. Cabot Oil & Gas Corporation, Pad ID: BistisM P1, ABR-201507005, Lathrop Township, Susquehanna County, Pa.; Consumptive Use of Up to 4.2500 mgd; Approval Date: July 17, 2015.

36. Cabot Oil & Gas Corporation, Pad ID: LambertR P1, ABR-201507006, Gibson Township, Susquehanna County, Pa.; Consumptive Use of Up to 4.2500 mgd; Approval Date: July 17, 2015.

37. EXCO Resources (PA), LLC, Pad ID: Falk Unit #1H, ABR-20090920.R1, Penn Township, Lycoming County, Pa.; Consumptive Use of Up to 5.0000 mgd; Approval Date: July 20, 2015.

38. Cabot Oil & Gas Corporation, Pad ID: WarrinerR P5, ABR-20100519.R1, Dimock Township, Susquehanna County, Pa.; Consumptive Use of Up to 3.5750 mgd; Approval Date: July 21, 2015.

39. Cabot Oil & Gas Corporation, Pad ID: Daniels Pad, ABR-201010018.R1, Gibson Township, Susquehanna County, Pa.; Consumptive Use of Up to 4.9900 mgd; Approval Date: July 21, 2015.

40. Cabot Oil & Gas Corporation, Pad ID: StalterD P1, ABR-201011030.R1, Lenox Township, Susquehanna County, Pa.; Consumptive Use of Up to 3.5750 mgd; Approval Date: July 21, 2015.

41. Cabot Oil & Gas Corporation, Pad ID: DerianchoF P1, ABR-201011055.R1, Bridgewater Township, Susquehanna County, Pa.; Consumptive Use of Up to 3.5750 mgd; Approval Date: July 21, 2015.

42. Cabot Oil & Gas Corporation, Pad ID: HawleyJ P1, ABR-201103009.R1, Forest Lake Township, Susquehanna County, Pa.; Consumptive Use of Up to 3.5750 mgd; Approval Date: July 21, 2015.

43. Cabot Oil & Gas Corporation, Pad ID: ZickJ P1, ABR-201003020.R1, Lenox Township, Susquehanna County, Pa.; Consumptive Use of Up to 3.5750 mgd; Approval Date: July 21, 2015.

44. Chesapeake Appalachia, LLC, Pad ID: Norton, ABR-201011008.R1, Elkland Township, Sullivan County, Pa.; Consumptive Use of Up to 7.5000 mgd; Approval Date: July 21, 2015.

45. EOG Resources, Inc., Pad ID: Housknecht 3H, ABR-20090422.R1, Springfield Township, Bradford County, Pa.; Consumptive Use of Up to 0.4900 mgd; Approval Date: July 21, 2015.

46. EOG Resources, Inc., Pad ID: Housknecht 1H, ABR-20090423.R1, Springfield Township, Bradford County, Pa.; Consumptive Use of Up to 1.9990 mgd; Approval Date: July 21, 2015.

47. EOG Resources, Inc., Pad ID: PHC 4H, ABR-20090501.R1, Lawrence Township, Clearfield County, Pa.; Consumptive Use of Up to 4.0000 mgd; Approval Date: July 21, 2015.

48. EOG Resources, Inc., Pad ID: PHC 5H, ABR-20090502.R1, Lawrence Township, Clearfield County, Pa.; Consumptive Use of Up to 4.0000 mgd; Approval Date: July 21, 2015.

49. EOG Resources, Inc., Pad ID: PHC 9H, ABR-20090503.R1, Lawrence Township, Clearfield County, Pa.; Consumptive Use of Up to 0.9990 mgd; Approval Date: July 21, 2015.

50. EOG Resources, Inc., Pad ID: PHC 11V, ABR-20090720.R1, Lawrence Township, Clearfield County, Pa.; Consumptive Use of Up to 0.9999 mgd; Approval Date: July 21, 2015.

51. EOG Resources, Inc., Pad ID: PHC Pad R, ABR-20100690.R1, Lawrence Township, Clearfield County, Pa.; Consumptive Use of Up to 4.9990 mgd; Approval Date: July 21, 2015.

52. EOG Resources, Inc., Pad ID: PHC 10V, ABR-20090719.R1, Lawrence Township, Clearfield County, Pa.; Consumptive Use of Up to 0.9999 mgd; Approval Date: July 21, 2015.

53. EXCO Resources (PA), LLC, Pad ID: Taylor (Pad 33), ABR-20100611.R1, Burnside Township, Centre County, Pa.; Consumptive Use of Up to 8.0000 mgd; Approval Date: July 21, 2015.

54. Talisman Energy USA Inc., Pad ID: Boor 03 010, ABR-20100665.R1, Columbia Township, Bradford County, Pa.; Consumptive Use of Up to 6.0000 mgd; Approval Date: July 21, 2015.

55. Seneca Resources, Pad ID: D08-M, ABR-201507007, Norwich Township, McKean County, Pa.; Consumptive Use of Up to 4.0000 mgd; Approval Date: July 22, 2015.

56. Range Resources Appalachia, LLC, Pad ID: Ogontz 3, ABR-20090606.R1, Cummings Township, Lycoming County, Pa.; Consumptive Use of Up to 5.0000 mgd; Approval Date: July 23, 2015.

57. Range Resources Appalachia, LLC, Pad ID: McWilliams 1, ABR-20090607.R1, Cogan House Township, Lycoming County, Pa.; Consumptive Use of Up to 5.0000 mgd; Approval Date: July 23, 2015.

58. Range Resources Appalachia, LLC, Pad ID: Genter 3, ABR-20100153.R1, Cummings Township, Lycoming County, Pa.; Consumptive Use of Up to 5.0000 mgd; Approval Date: July 23, 2015.

59. Range Resources Appalachia, LLC, Pad ID: Dog Run Hunting Club Unit, ABR-20100456.R1, Cummings Township, Lycoming County, Pa.; Consumptive Use of Up to 5.0000 mgd; Approval Date: July 23, 2015.

60. Range Resources Appalachia, LLC, Pad ID: Harman, Lewis Unit #1H, ABR-20100554.R1, Moreland Township, Lycoming County, Pa.; Consumptive Use of Up to 5.0000 mgd; Approval Date: July 23, 2015.

61. Range Resources Appalachia, LLC, Pad ID: Ogontz Fishing Club Unit #12H—#17H, ABR-20100648.R1, Cummings Township, Lycoming County, Pa.; Consumptive Use of Up to 5.0000 mgd; Approval Date: July 23, 2015.

62. Range Resources Appalachia, LLC, Pad ID: Lone Walnut H.C. Unit #3H Drilling Pad, ABR-201007031.R1, Cummings Township, Lycoming County, Pa.; Consumptive Use of Up to 5.0000 mgd; Approval Date: July 23, 2015.

63. Chesapeake Appalachia, LLC, Pad ID: Ruth, ABR-201507008, Meshoppen Township, Wyoming County, Pa.; Consumptive Use of Up to 7.5000 mgd; Approval Date: July 27, 2015.

64. Chesapeake Appalachia, LLC, Pad ID: M&M Estates, ABR-201011013.R1, Fox Township, Sullivan County, Pa.; Consumptive Use of Up to 7.5000 mgd; Approval Date: July 27, 2015.

65. SWEPI LP, Pad ID: Young 431, ABR-20100561.R1, Shippen Township, Tioga County, Pa.; Consumptive Use of Up to 4.0000 mgd; Approval Date: July 27, 2015.

66. SWEPI LP, Pad ID: Mitchell 456, ABR-20100615.R1, Jackson Township, Tioga County, Pa.; Consumptive Use of Up to 4.0000 mgd; Approval Date: July 27, 2015.

67. Talisman Energy USA Inc., Pad ID: 02 205 DCNR 594, ABR-201008040.R1, Bloss Township, Tioga County, Pa.; Consumptive Use of Up to 6.0000 mgd; Approval Date: July 27, 2015.

68. Talisman Energy USA Inc., Pad ID: 02 101 Olson, ABR-201209024.R1, Hamilton Township, Tioga County, Pa.; Consumptive Use of Up to 6.0000 mgd; Approval Date: July 27, 2015.

69. XTO Energy Incorporated, Pad ID: Marquardt, ABR-20090712.R1, Penn Township, Lycoming County, Pa.; Consumptive Use of Up to 3.0000 mgd; Approval Date: July 27, 2015.

70. EXCO Resources (PA), LLC, Pad ID: Litke 1H, 2H, ABR-20090425.R1, Burnside Township, Centre County, Pa.; Consumptive Use of Up to 4.0000 mgd; Approval Date: July 31, 2015.

71. EXCO Resources (PA), LLC, Pad ID: Litke (7H & 8H), ABR-20090426.R1, Burnside Township, Centre County, Pa.; Consumptive Use of Up to 4.0000 mgd; Approval Date: July 31, 2015.

72. EXCO Resources (PA), LLC, Pad ID: Snyder Unit #1, ABR-20090430.R1, Franklin Township, Lycoming County, Pa.; Consumptive Use of Up to 8.0000 mgd; Approval Date: July 31, 2015.

73. EXCO Resources (PA), LLC, Pad ID: Spotts Unit Drilling Pad #1, ABR-20090921.R1, Mifflin Township, Lycoming County, Pa.; Consumptive Use of Up to 5.0000 mgd; Approval Date: July 31, 2015.

74. EXCO Resources (PA), LLC, Pad ID: Stroble Unit Drilling Pad #1, ABR-20090924.R1, Mifflin Township, Lycoming County, Pa.; Consumptive Use of Up to 5.0000 mgd; Approval Date: July 31, 2015.

75. EXCO Resources (PA), LLC, Pad ID: Poor Shot Unit Drilling Pad #1, ABR-20090925.R1, Anthony Township, Lycoming County, Pa.; Consumptive Use of Up to 5.0000 mgd; Approval Date: July 31, 2015.

76. EXCO Resources (PA), LLC, Pad ID: Poor Shot East Unit Drilling Pad #1, ABR-20091002.R1, Anthony Township, Lycoming County, Pa.; Consumptive Use of Up to 5.0000 mgd; Approval Date: July 31, 2015.

77. EXCO Resources (PA), LLC, Pad ID: Kensinger 3H Drilling Pad #1, ABR-20100205.R1, Penn Township, Lycoming County, Pa.; Consumptive Use of Up to 8.0000 mgd; Approval Date: July 31, 2015.

78. EXCO Resources (PA), LLC, Pad ID: Myers Drilling Pad #1, ABR-20100416.R1, Penn Township, Lycoming County, Pa.; Consumptive Use of Up to 2.0000 mgd; Approval Date: July 31, 2015.

79. EXCO Resources (PA), LLC, Pad ID: Warner Drilling Pad #1, ABR-20100451.R1, Franklin Township, Lycoming County, Pa.; Consumptive Use of Up to 2.0000 mgd; Approval Date: July 31, 2015.

Authority: Public Law 91-575, 84 Stat. 1509 et seq., 18 CFR parts 806, 807, and 808.

Dated: October 2, 2015.
Stephanie L. Richardson,
Secretary to the Commission.

[FR Doc. 2015-25612 Filed 10-7-15; 8:45 am]

BILLING CODE 7040-01-P